ENVIRONMENTAL PROTECTION AGENCY

[FRL-7938-3]

Clean Air Act Advisory Committee (CAAAC) Notice of Meeting Date Correction

AGENCY: Environmental Protection Agency (EPA).

ACTION: Notice; correction.

SUMMARY: In the Federal Register of July 1, 2005, 70 FR 38133, EPA announced the Notice of a public meeting scheduled for the Clean Air Act Advisory Committee for July 27 and 28, 2005, but inadvertently listed the dates as Thursday July 27, and Friday July 28. This notice is being published to correct the dates as Wednesday July 27, and Thursday July 28, 2005.

Pursuant to the Federal Advisory Committee Act (Public Law 92-463), notice is hereby given that the Clean Air Act Advisory Committee will hold its next open meeting on Thursday July 28, 2005. On July 28 the meeting will begin at 8:30 a.m. to 3:30 p.m. at the Double Tree Hotel, 300 Army Navy Drive, Arlington, VA 22202. The Subcommittee meetings will be held on Wednesday July 27, 2005, at 8:30 a.m. to 4:30 p.m. at the same location as the full Committee. Seating will be available on a first come, first served basis. The Mobile Source Technical Review subcommittee will not meet at this time. The agenda for the full committee meeting will be posted on the CAAAC Web site: http://www.epa.gov/oar/caaac/. It is open to the public.

DATES: Clean Air Act Advisory Committee will hold its next open meeting on Thursday, July 28, 2005, from approximately 8:30 a.m. to 3:30 p.m. Subcommittees will meet on Wednesday, July 27, 2005, at the same location.

ADDRESSES: CAAAC and its subcommittee meetings will be held at the Double Tree Hotel, 300 Army Navy Drive, Arlington, VA 22202.

FOR FURTHER INFORMATION CONTACT: Concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittee meetings, please contact the following individuals: (1) Permits/NSR/Toxics Integration—Debbie Stackhouse, 919-541-5354; and (2) Air Quality Management—Jeff Whitlow 919-541-5523 (3) Economic Incentives and Regulatory Innovations—Carey Fitzmaurice, 202-564-1667. Additional Information on these meetings, CAAAC and its Subcommittees can be found on the CAAAC Web site: http://www.epa.gov/oar/caaac/.

SUPPLEMENTARY INFORMATION: Please refer to July 1, 2005, Federal Register notice or EPA's Web site http://www.epa.gov/fedrgstr/EPA-AIR/2005/July/Day-01/a13057.htm.

Dated: July 5, 2005.
Robert D. Brenner,
Principal Deputy Assistant Administrator, for Air and Radiation.

[FR Doc. 05-13870 Filed 7-13-05; 8:45 am]

BILLING CODE 6560-50-P